DEPARTMENT OF TRANSPORTATION

Federal Highway Administration

Notice of Final Federal Agency Actions on Proposed Highways in Colorado

AGENCY: Federal Highway Administration (FHWA), Department of Transportation (DOT).

ACTION: Notice of limitation on claims for judicial review of actions by FHWA and other Federal agencies.

SUMMARY: This notice announces actions taken by the FHWA and other Federal agencies that are final. The actions relate to various proposed highway projects in the State of Colorado. Those actions grant licenses, permits, and approvals for the projects.

DATES: By this notice, the FHWA is advising the public of final agency actions subject to 23 U.S.C. 139(l)(1). A claim seeking judicial review of the Federal agency actions on any of the listed highway projects will be barred unless the claim is filed on or before September 14, 2018. If the Federal law that authorizes judicial review of a claim provides a time period of less than 150 days for filing such claim, then that shorter time period still applies.

FOR FURTHER INFORMATION CONTACT: Stephanie Gibson, Environmental Program Manager, Federal Highway Administration Colorado Division, 12300 W Dakota Avenue, Suite 180, Lakewood, Colorado 80228, telephone: 720-963-3013, email: Stephanie.Gibson@dot.gov. Normal business hours are 8:30 a.m. to 5:00 p.m. (Mountain time), Monday through Friday, except Federal Holidays. You may also contact David Singer, NEPA Program Manager, Colorado Department of Transportation, 4201 E. Arkansas Avenue, Shumate Building, Denver, Colorado 80222, 303-757-9878, David.Singer@state.co.us, normal business hours are 8:00 a.m. to 4:30 p.m. (Mountain time), Monday through Friday, except Federal Holidays.

SUPPLEMENTARY INFORMATION: Notice is hereby given that the FHWA and other Federal agencies have taken final agency actions 23 U.S.C. 139(l)(1) by issuing licenses, permits, and approvals for the highway projects in the State of Colorado that are listed below. The actions by the Federal agencies on a project, and the laws under which such actions were taken, are described in the environmental assessment (EA) or environmental impact statement (EIS) issued in connection with the project and in other key project documents. The EA or EIS, and other key documents for the listed projects are available by contacting the FHWA or the Colorado Department of Transportation at the addresses provided above. The EA, Finding of No Significant Impact (FONSI), Final EIS, and Record of Decision (ROD) documents can be viewed and downloaded from the websites listed below.

This notice applies to all Federal agency decisions on each project as of the issuance date of this notice and all laws under which such actions were taken. This notice does not, however, alter or extend the limitation period of 150 days for challenges to final agency actions subject to previous notices published in the Federal Register.

This notice applies to all Federal agency decisions, actions, approvals, licenses and permits on the project as of the issuance date of this notice, including but not limited to those arising under the following laws, as amended:

1. General: National Environmental Policy Act (NEPA) [42 U.S.C. 4321-4370h]; Federal-Aid Highway Act [Title 23] and associated regulations [CFR part 23].

2. Air: Clean Air Act, [42 U.S.C. 7401-7671(q)] (transportation conformity); Intermodal Surface Transportation Efficiency Act of 1991, Congestion Mitigation and Air Quality Improvement Program (Sec. 1008 U.S.C. 149).

3. Land: Section 4(f) of The Department of Transportation Act: [49 U.S.C. 303] Farmland Protection Policy Act (FPPA) [7 U.S.C. 4201-4209]. Solid Waste Disposal Act, as amended by the Resource Conservation and Recovery Act of 1976 (42 U.S.C. 6901, et seq.); Landscaping and Scenic Enhancement (Wildflowers) [23 U.S.C. 319].

4. Wildlife: Endangered Species Act [16 U.S.C. 1531-1544]; Fish and Wildlife Coordination Act [16 U.S.C. 661-667(e)]; Migratory Bird Treaty Act [16 U.S.C. 703-712]. Plant Protection Act [7 U.S.C. 7701 et seq.].

5. Historic and Cultural Resources: Section 106 of the National Historic Preservation Act of 1966, [54 U.S.C. 306108]; Archeological Resources Protection Act of 1977 [16 U.S.C. 470(aa)-470(mm)]; Archeological and Historic Preservation Act [16 U.S.C. 469-469c-2]; American Indian Religious Freedom Act [42 U.S.C. 1996]; Native American Grave Protection and Repatriation Act [25 U.S.C. 3001-3013].

6. Social and Economic: Civil Rights Act of 1964 [42 U.S.C. 2000(d)-2000(d)(1)]; Uniform Relocation Assistance and Real Property Acquisition Act [42 U.S.C. 61].

7. Wetlands and Water Resources: Clean Water Act [33 U.S.C. 1251-1387 (Sections 319, 401, 404, and 408)]; Land and Water Conservation Fund Act [16 U.S.C. 460l-4-460l-11]; Safe Drinking Water Act [42 U.S.C. 300f—300j-9.]; Flood Disaster Protection Act [42 U.S.C. 4001-4129].

8. Hazardous Materials: Comprehensive Environmental Response, Compensation, and Liability Act [42 U.S.C. 9601-9675]; Superfund Amendments and Reauthorization Act of 1986 [Pub. L. 99-499]; Resource Conservation and Recovery Act [42 U.S.C. 6901-6992(k)].

9. Executive Orders: E.O. 11514 Protection and Enhancement of Environmental Quality; E.O. 11593 Protection and Enhancement of Cultural Resources; E.O. 11988 Floodplain Management; E.O. 11990 Protection of Wetlands; E.O. 12898 Federal Actions to Address Environmental Justice in Minority Populations and Low Income Populations; E.O. 13007 Indian Sacred Sites; E.O. 13112 Invasive Species; E.O. 13175 Consultation and Coordination with Indian Tribal Governments; E.O. 13287 Preserve America.

The projects subject to this notice are:

1. I-76 and Bridge Street Interchange EA and FONSI. Project Location: I-76 and Bridge Street, Brighton, Colorado. Project reference number: 0761-202. Project overview: The project would construct a new interchange at I-76 and Bridge Street (SH 7). Project Purpose: The purpose of the project is to increase local and regional east-west connectivity, reduce the amount of travel delay through the planning horizon year of 2035, and improve traffic flow in the project area. Signed NEPA documents and permits: EA was signed January 23, 2015 and FONSI was signed July 8, 2015. https://www.brightonco.gov/605/I-76-and-Bridge-Street-Interchange-Proje and https://www.codot.gov/library/studies/i76bridgestreetea.

2. 6th Avenue Parkway Extension EA and FONSI. Project Location: 6th Avenue from SH 30 to E-470, Aurora, Colorado. Project overview: This project would construct the 6th Avenue Parkway extension along a new roadway alignment between State Highway (SH 30) and the 6th Avenue Parkway/E-470 Tollway (E-470) interchange Project Purpose: The purpose of this project is to enhance east-west mobility by implementing a transportation solution that will close a critical gap between SH 30 and E-470 in the regional transportation network of northeastern Aurora. Signed NEPA documents and permits: EA signed June 23, 2016 and FONSI signed December 8, 2016. https://www.auroragov.org/business_services/planning/plans_and_studies/transportation_planning/6th_avenue_parkway_extension/ and https://www.codot.gov/projects/sixth-avenue-parkway-extension-to-e-470.

3. Martin Luther King, Jr. Boulevard Extension EA and FONSI. Project Location: Near Havana Way, between Havana Street and Peoria Street, Denver, Colorado. Project reference number: STU M320-099. Project overview: The existing Havana Way would be renamed MLK Blvd., widened to a four-lane arterial, and extended east to the Peoria Street and Fitzsimons Parkway intersection. Project Purpose: The purpose of the project is to improve an east-west arterial connection between Havana Street and Peoria Street, a distance of 1.1 miles, improving traffic congestion and reducing out-of-direction travel. Signed NEPA documents and permits: EA signed July 25, 2011 and FONSI signed October 19, 2017. https://www.denvergov.org/content/denvergov/en/denver-department-of-public-works/projects/current/mlk-boulevard-extension.html.

4. US 50 West, Wills Blvd. to McCulloch Blvd. (Milepost 313 to Milepost 307) EA and FONSI. Project Location: US 50 in the western part of Pueblo, Colorado. Project reference number: STA 0503-088. Project overview: The project would widen US 50 from four to six lanes, and change intersections to interchanges at US 50 at Purcell Blvd. and Pueblo Blvd. Project Purpose: The purpose of the project is to improve safety; increase mobility, such as reducing travel time, relieving traffic congestion; and improve level of service to the connecting road network. Signed NEPA documents and permits: EA signed April 21, 2016 and FONSI signed August 17, 2016. https://www.codot.gov/library/studies/us50ea.

5. North I-25 EIS and RODs. Project Location: I-25 corridor from Denver to Wellington in northern Colorado. Project reference number: IM 0253(179). Project overview: The I-25 North project is an improvements project that includes; general purpose lanes, tolled express lanes, interchange reconstruction, and multi-modal services such as: I-25 express bus, US 85 commuter bus, and commuter rail service. Project purpose: The purpose of the I-25 North project is to make improvements to provide modal alternatives, correct geometric deficiencies, improve safety, mobility and accessibility, and replace aging and obsolete infrastructure. Signed NEPA documents and permits: FEIS was signed August 19, 2011. Revised ROD1 (SH 392 to SH 14) was signed August 16, 2017. Revised ROD1 (I-25/SH 7 Interchange) was signed October 20, 2017. ROD2 (120th Avenue to SH 7) was signed September 28, 2015. ROD3 (Crossroads Boulevard) was signed June 8, 2016. ROD4 (SH 56 to SH 392) was signed April 27, 2017. ROD5 (Vine Drive/County Road 48 Bridge Replacement) was signed December 1, 2017. https://www.codot.gov/projects/north-i-25-eis/Northi25rod.

6. US 50 Tier 1 Combined Final EIS and ROD. Project Location: A 150-mile-long portion of US 50 between Pueblo and the vicinity of the Colorado-Kansas state line, going through Pueblo, Otero, Bent, and Prowers Counties. Project reference number: NH 0504-037. Project overview: The Build Alternative consists of constructing a four-lane expressway on or near the existing US 50 alignment, including new alignments around ten towns to preserve their business districts and historic downtown areas. Project Purpose: The purpose of the project is to improve safety and mobility for local, regional, and long-distance users of US 50 for present and future travel demand. This will be accomplished by balancing the mobility and access needs of these users and also providing the flexibility to meet future travel demands. Signed NEPA documents and permits: The Combined Final EIS/ROD was signed on December 11, 2017. https://www.codot.gov/projects/us50e.

7. Colorado State Highway 470 (C-470) Corridor, Kipling Parkway to I-25 EA and FONSI. Project Location: A 13.75-mile portion of C-470 in the southern portion of the Denver metropolitan area. Project reference number: NH 4701-103. Project overview: The project involves adding one managed, tolled express lane in each direction between I-25 and Kipling Parkway, and a second managed lane as follows: Westbound, I-25 to Lucent Boulevard, and eastbound, Broadway to I-25. The purpose of the project is to provide congestion relief, decrease travel delay, and improve corridor reliability between Kipling Parkway and I-25 on the C-470 corridor. Project Purpose: The purpose of the project is to address existing and future C-470 congestion between Kipling Parkway and I-25, reduce traveler delay, and improve travel time reliability for corridor users through the year 2035. Signed NEPA documents and permits: This statute of limitations notice applies to the Reevaluation signed on March 28, 2018 that provided additional detail to the noise analysis that was contained in the Revised Environmental Assessment (EA) (signed on July 24, 2015) and the Finding of No Significant Impact (FONSI) (signed on November 20, 2015). The statute of limitations notice for the FONSI expired on May 16, 2016.

Authority: 23 U.S.C. 139(l)(1).

Issued on: April 2, 2018.
John M. Cater,
Division Administrator, Lakewood, Colorado.

[FR Doc. 2018-07877 Filed 4-16-18; 8:45 am]

BILLING CODE 4910-22-P